FEDERAL RESERVE SYSTEM

Formations of, Acquisitions by, and Mergers of Bank Holding Companies; Correction

This notice corrects a notice (FR Doc. 70-119) published on pages 36175-36176 of the issue for June 22, 2005.

Under the Federal Reserve Bank of Chicago heading, the entry for Lamplighter Financial, MHC, Wauwatosa, Wisconsin, is revised to read as follows:

Federal Reserve Bank of Chicago (Patrick M. Wilder, Assistant Vice President) 230 South LaSalle Street, Chicago, Illinois 60690-1414:

1. Lamplighter Financial, MHC, Wauwatosa, Wisconsin and Wauwatosa Holdings, Inc.; Wauwatosa, Wisconsin; to become bank holding companies by acquiring 100 percent of the voting shares of Wauwatosa Savings Bank, Wauwatosa, Wisconsin.

Comments on this application must be received by July 15, 2005.

Board of Governors of the Federal Reserve System, June 23, 2005.
Jennifer J. Johnson,
Secretary of the Board.

[FR Doc. 05-12810 Filed 6-28-05; 8:45 am]

BILLING CODE 6210-01-S